DEPARTMENT OF ENERGY

[Docket No. EA-233]

Application To Export Electric Energy; Idaho Power Company

AGENCY: Office of Fossil Energy, DOE.

ACTION: Notice of application.

SUMMARY: Idaho Power Company (IPC) has applied for authority to transmit electric energy from the United States to Mexico pursuant to section 202(e) of the Federal Power Act.

DATES: Comments, protests or requests to intervene must be submitted on or before March 29, 2001.

ADDRESSES: Comments, protests or requests to intervene should be addressed as follows: Office of Coal & Power Im/Ex (FE-27), Office of Fossil Energy, U.S. Department of Energy, 1000 Independence Avenue, SW., Washington, DC 20585-0350 (FAX 202-287-5736).

FOR FURTHER INFORMATION CONTACT: Steven Mintz (Program Office) 202-586-9506 or Michael Skinker (Program Attorney) 202-586-6667.

SUPPLEMENTARY INFORMATION: Exports of electricity from the United States to a foreign country are regulated and require authorization under section 202(e) of the Federal Power Act (FPA) (16 U.S.C. 824a(e)).

On February 12, 2001, the Office of Fossil Energy (FE) of the Department of Energy (DOE) received an application from IPC to transmit electric energy from the United States to MexiCo IPC is a wholly owned subsidiary of IDACORP, Inc IPC is incorporated under the laws of the State of Idaho and is authorized to operate in Idaho, Oregon, and Nevada. The electric energy IPC proposes to export to Mexico would be purchased from electric utilities, Federal power marketing agencies, cogeneration facilities, and exempt wholesale generators within the United States. In addition, IPC proposes to export electric energy from power plants that it owns only if that energy is surplus to the needs of its native-load customers.

IPC proposes to arrange for the delivery of electric energy to Mexico over the international transmission facilities owned by San Diego Gas & Electric Company, El Paso Electric Company, Central Power and Light Company, and Comision Federal de Electricidad, the national electric utility of Mexico. The construction of each of the international transmission facilities to be utilized by IPC, as more fully described in the application, has previously been authorized by a Presidential permit issued pursuant to Executive Order 10485, as amended.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the IPC application to export electric energy to Mexico should be clearly marked with Docket EA-233. Additional copies are to be filed directly with James Thompson, Idaho Power Company, 1221 West Idaho Street, Boise, ID 83702 and Steven J. Ross, Steptoe & Johnson LLP, 1330 Connecticut Avenue NW., Washington, DC 20036.

A final decision will be made on this application after the environmental impacts have been evaluated pursuant to the National Environmental Policy Act of 1969 (NEPA), and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Regulatory Programs,” then “Electricity Regulation,” and then “Pending Proceedings” from the options menus.

Issued in Washington, DC, on February 21, 2001.
Anthony J. Como,
Deputy Director, Electric Power Regulation, Office of Coal & Power Im/Ex, Office of Coal & Power Systems, Office of Fossil Energy.

[FR Doc. 01-4735 Filed 2-26-01; 8:45 am]

BILLING CODE 6450-01-P